FEDERAL COMMUNICATIONS COMMISSION

[WC Docket 23-1; FR ID 162637]

Federal Advisory Committee, North American Numbering Council

AGENCY: Federal Communications Commission.

ACTION: Notice of intent to renew the charter for the North American Numbering Council.

SUMMARY: In this document, the Federal Communications Commission (FCC or Commission) hereby announces that the charter of the North American Numbering Council (hereinafter Committee) will be renewed for a two-year period pursuant to the Federal Advisory Committee Act (FACA) and following consultation with the Committee Management Secretariat, General Services Administration.

ADDRESSES: Federal Communications Commission, 45 L Street NE, Washington, DC 20554.

FOR FURTHER INFORMATION CONTACT: You may contact Christi Shewman, Designated Federal Officer, at christi.shewman@fcc.gov or 202-418-0646.

SUPPLEMENTARY INFORMATION: After consultation with the General Services Administration, the Commission intends to renew the charter on or before September 8, 2023, providing the Committee with authorization to operate for two years. The purpose of the Committee is to advise the Commission and to make recommendations that foster efficient and impartial North American Numbering Plan administration. The Committee will advise the Commission on numbering policy and technical issues in areas of responsibility that the Commission has entrusted to the Committee, with a focus on examining numbering in the changing world of communications.

Advisory Committee

The Committee will be organized under, and will operate in accordance with, the provisions of the Federal Advisory Committee Act (FACA) (5 U.S.C. app. 2). The Committee will be solely advisory in nature. Consistent with FACA and its requirements, each meeting of the Committee will be open to the public unless otherwise noticed. A notice of each meeting will be published in the Federal Register at least fifteen (15) days in advance of the meeting. Records will be maintained of each meeting and made available for public inspection. All activities of the Committee will be conducted in an open, transparent, and accessible manner. The Committee shall terminate two (2) years from the filing date of its charter, or earlier upon the completion of its work as determined by the Chairwoman of the FCC, unless its charter is renewed prior to the termination date. During the Committee's next term, it is anticipated that the Committee will meet in Washington, DC and/or virtually via video conference, at the discretion of the Commission, approximately two (2) times a year, with additional meetings scheduled as needed. The first meeting date and agenda topics will be described in a Public Notice issued and published in the Federal Register at least fifteen (15) days prior to the first meeting date. In addition, as needed, working groups or subcommittees will be established to facilitate the Committee's work between meetings of the full Committee. Meetings of the Committee will be fully accessible to individuals with disabilities.

(5 U.S.C. app 2 10(a)(2))

Federal Communications Commission.
Jodie May,
Division Chief, Competition Policy Division, Wireline Competition Bureau.

[FR Doc. 2023-17762 Filed 8-17-23; 8:45 am]

BILLING CODE 6712-01-P